NATIONAL SCIENCE FOUNDATION

Special Emphasis Panel for Social, Behavioral, and Economic Sciences; Notice of Meeting

In accordance with the Federal Advisory Committee Act (Pub. L. 92-463, as amended), the National Science Foundation announces the following meeting:

Name: Special Emphasis Panel for Social, Behavioral, and Economic Sciences (#1766).

Date/Time: May 31-June 1, 2001, 8:00 a.m. to 5:00 p.m.

Place: National Science Foundation, Rm 525 and 535 (Stafford-II), 4201 Wilson Blvd. Arlington, VA

Type of Meeting: Closed.

Contact Person: Thomas J. Baerwald, Division of Behavioral and Cognitive Sciences, Room 995, National Science Foundation, 4201 Wilson Blvd., Arlington, VA 22230 (703) 292-8754.

Purpose of Meeting: To evaluate proposals submitted for the Biocomplexity in the Environment/Dynamics of Coupled Natural and Human Systems competition.

Agenda: The panel will evaluate proposals and make funding recommendations to NSF staff.

Reason for Closing: The proposals being reviewed include information of a proprietary or confidential nature, including technical information, financial data, such as salaries, and personal information concerning individuals associated with the proposals. These matters that are exempt under 5 U.S.C. 552b(c)(4) and (6) of the Government Sunshine Act.

Reason for Late Notice: Conflicting schedules of members and the necessity to proceed with the evaluation of proposals.

Dated: May 17, 2001.
Susanne Bolton,
Committee Management Officer.

[FR Doc. 01-12829 Filed 5-21-01; 8:45 am]

BILLING CODE 7555-01-M